DEPARTMENT OF DEFENSE

Office of Secretary

[DoD-2008-OS-0079]

Privacy Act of 1974; Systems of Records

AGENCY: Defense Commissary Agency, DoD.

ACTION: Notice to Amend a System of Records.

SUMMARY: The Defense Commissary Agency (DeCA) is proposing to amend a system of records notice to its inventory of record systems subject to the Privacy Act of 1974 (5 U.S.C. 552a), as amended.

DATES: This action will be effective without further notice on August 20, 2008 unless comments are received that would result in a contrary determination.

ADDRESSES: Defense Commissary Agency, 1300 E Avenue, Fort Lee, VA 23801-1800.

FOR FURTHER INFORMATION CONTACT: Ms. Donna Williamson at (804) 734-8777.

SUPPLEMENTARY INFORMATION: The Defense Commissary Agency notices for systems of records subject to the Privacy Act of 1974 (5 U.S.C. 552a), as amended, have been published in the Federal Register and are available from the address above.

The specific changes to the record system being amended are set forth below followed by the notice, as amended, published in its entirety. The proposed amendment is not within the purview of subsection (r) of the Privacy Act of 1974, (5 U.S.C. 552a), as amended, which requires the submission of a new or altered system report.

Dated: July 15, 2008.
Patricia L. Toppings,
OSD Federal Register Liaison Officer, Department of Defense.

ZIG 001

System name:

Commissary Patron Inquiry, Complaint, Comment, and Suggestion Files (June 1, 2001, 66 FR 29777).

Changes:

ID Number:

Delete entry and replace with “ZCC 001.”

System name:

Delete entry and replace with “Commissary Customer Inquiry, Complaint, Comment, and Suggestion Files.”

System location:

Delete entry and replace with “Corporate Communications, Defense Commissary Agency, 1300 E. Avenue, Fort Lee, VA 23801-1800.”

Categories of individuals covered by the system:

Delete the word “Patrons” and replace with “Customers”.

* * * * *

Storage:

Delete entry and replace with “Electronic storage media.”

Retrievability:

Delete “and commissary”.

Safeguards:

Delete entry and replace with “Automated records are stored in rooms with restricted access in a secure building. In addition, access is limited to the Corporate Communication's staff in performance of their official duties.”

Retention and disposal:

Delete entry and replace with “Paper records are shredded once the information is scanned into the database. Database information is destroyed after two years.”

System manager(s) and address:

Delete entry and replace with “Customer Relations Specialist, Corporate Communication, Defense Commissary Agency, 1300 E. Avenue, Fort Lee, VA 23801-1800.”

* * * * *

ZCC 001

System name:

Commissary Customer Inquiry, Complaint, Comment, and Suggestion Files.

System location:

Corporate Communications, Defense Commissary Agency, 1300 E. Avenue, Fort Lee, VA 23801-1800.

Categories of individuals covered by the system:

Customers of the Commissaries who make inquiries, complaints, comments, or suggestions on its operations.

Categories of records in the system:

Customer's name, address, telephone number, and e-mail address; information pertaining to the subject of inquiry, complaint, comment, or suggestion, and response thereto; customer opinion survey data.

Authority for maintenance of the system:

5 U.S.C 301, Departmental Regulations; and 10 U.S.C 2482, Commissary stores: operation.

Purpose(s):

To aid the Defense Commissary Agency in determining needs of customers, responding to the customer's inquiries and comments, and determining action required to settle customer complaints.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ set forth at the beginning of the Defense Commissary Agency's compilation of systems of records notices apply to this system.

Policies and practices for storing, retrieving, accessing, retaining, and disposing of records in the system:

Storage:

Electronic storage media.

Retrievability:

By customer's name, case number, and e-mail address.

Safeguards:

Automated records are stored in rooms with restricted access in a secure building. In addition, access is limited to the Corporate Communications staff in performance of their official duties.

Retention and disposal:

Paper records are shredded once the information is scanned into the database. The database information is destroyed after two years.

System manager(s) and address:

Customer Relations Specialist, Corporate Communications, Defense Commissary Agency, 1300 E. Avenue, Fort Lee, VA 23801-1800.

Notification procedure:

Individuals seeking to determine whether this system of records contains information about themselves should address written inquiries to the Freedom of Information Act/Privacy Officer, Defense Commissary Agency, 1300 E. Avenue, Fort Lee, VA 23801-1800.

The request should contain the individual's full name, address, and telephone number. These items are necessary for the retrieval of information.

Requests submitted on behalf of other persons must include their written authorization.

Record access procedures:

Individuals seeking access to information about themselves contained in this system should address written inquiries to the Freedom of Information Act/Privacy Officer, Defense Commissary Agency, 1300 E. Avenue, Fort Lee, VA 23801-1800.

The request should contain the individual's full name, address, and telephone number. These items are necessary for the retrieval of information.

Requests submitted on behalf of other persons must include their written authorization.

Contesting record procedures:

The Defense Commissary Agency's rules for accessing records, for contesting contents and appealing initial agency determinations are contained in Defense Commissary Agency Directive 30-13; 32 CFR part 327; or may be obtained from the Freedom Of Information Act/Privacy Officer at 1300 E. Avenue, Fort Lee, VA 23801-1800.

Record source categories:

Information is provided by the individual.

Exemptions claimed for the system:

None.

[FR Doc. E8-16602 Filed 7-18-08; 8:45 am]

BILLING CODE 5001-06-P